OFFICE OF MANAGEMENT AND BUDGET

Notice of Request for Comment on Government-Wide Reform

AGENCY: Office of Management and Budget (OMB), Executive Office of the President.

ACTION: Notice of request for comment on Government-wide Reform.

SUMMARY: The Executive Office of the President invites the public to suggest improvements to the organization and functioning of the Executive Branch. These suggestions will help inform the development of the proposed Government-wide Reform Plan, designed to create a leaner, more accountable, and more efficient government that works for the American people.

DATES: Comments are due by June 12, 2017.

ADDRESSES: Comments and suggestions on government reforms and improvements must be submitted electronically by June 12, 2017 to https://www.whitehouse.gov/reorganizing-the-executive-branch.

SUPPLEMENTARY INFORMATION: On March 13, 2017, the President signed Executive Order 13781, Comprehensive Plan for Reorganizing the Executive Branch, which established a public comment requirement for the formulation of a comprehensive plan for reorganizing the Executive Branch. On April 12, 2017, OMB issued Memorandum M-17-22, Comprehensive Plan for Reforming the Federal Government and Reducing the Federal Civilian Workforce, to chart the course for a restrained, effective, and accountable government to better serve the American people. Pursuant to Executive Order 13781 and Memorandum M-17-22, a White House Web site has been created to facilitate the collection of public comments to inform the development of the Government-wide Reform Plan. The American people are encouraged to provide their input on how the Federal government can best work for them.

Mick Mulvaney,
OMB Director.

[FR Doc. 2017-09702 Filed 5-12-17; 8:45 am]

BILLING CODE 3110-01-P